DEPARTMENT OF TRANSPORTATION

Federal Aviation Administration

14 CFR Part 71

[Airspace Docket No. 02-ACE-7]

Proposed Modification of Class D Airspace; Knob Noster, Whiteman AFB, MO; and Modification of Class E Airspace; Knob Noster, Whiteman AFB, MO

AGENCY: Federal Aviation Administration (FAA), DOT.

ACTION: Notice of proposed rulemaking.

SUMMARY: This action proposes to modify Class D airspace at Knob Noster, Whiteman AFB, MO, modify Class E airspace designated as a surface area for Knob Noster, Whiteman AFB, MO and modify Class E airspace extending upward from 700 feet above the surface of the earth at Knob Noster, Whiteman AFB, MO. It has been determined that the Knob Noster, Whiteman AFB, MO Class D airspace and the Knob Noster, Whiteman AFB, MO Class E airspace designated as a surface area be amended to provide for containment of instrument approach procedures within controlled airspace. Adequate controlled airspace should be established to contain Category E circling requirements. It has also been determined that the extension of the Knob Noster, Whiteman AFB, MO Class E airspace extending upward from 700 feet above the surface of the earth is no longer required. This action would amend the existing Knob Noster, Whiteman AFB, MO Class D airspace and the Knob Noster, Whiteman AFB, MO Class E airspace designated as a surface area by changing the existing 4.6-mile radius to a 6.5-mile radius and by eliminating the north and south extensions. This action would also amended Knob Noster, Whiteman AFB, MO Class E airspace extending upward from 700 feet above the surface of the earth by deleting that portion within 1.8 miles each side of the Whiteman ILS localizer south course, extending from the 7-mile radius to the 9.7-mile radius south of Knob Noster, Whiteman AFB, MO.

DATES: Comments for inclusion in the Rules Docket must be received on or before October 7, 2002.

ADDRESSES: Send comments on the proposal in triplicate to: Federal Aviation Administration, Docket Number 02-ACE-7, Manager, Airspace Branch, Air Traffic Division, ACE-520, DOT Regional Headquarters Building, 901 Locust, Kansas City, MO 64106.

The official docket may be examined in the Office of the Regional Counsel for the Central Region at the same address between 9 a.m. and 3 p.m., Monday through Friday, except Federal holidays. An informal docket may also be examined during normal business hours in the Air Traffic Division at the same address listed above.

FOR FURTHER INFORMATION CONTACT: Brenda Mumper, Air Traffic Division, Airspace Branch, ACE-520A, DOT Regional Headquarters Building, Federal Aviation Administration, 901 Locust, Kansas City, MO 64106; telephone: (816) 329-2524.

SUPPLEMENTARY INFORMATION:

Comments Invited

Interested parties are invited to participate in this proposed rulemaking by submitting such written data, views or arguments as they may desire. Comments that provide the factual basis supporting the views and suggestions presented are particularly helpful in developing reasoned regulatory decisions on the proposal. Comments are specifically invited on the overall regulatory, aeronautical, economic, environmental, and energy-related aspects of the proposal. Communications should identify the airspace docket number and be submitted in triplicate to the address listed above. Commenters wishing the FAA to acknowledge receipt of their comments on this action must submit with those comments a self-addressed, stamped postcard on which the following statement is made: “Comments to Airspace Docket No. 02- ACE-7.” The postcard will be date/time stamped and returned to the commenter. All communications received before the specified closing date for comments will be considered before taking action on the proposed rule. The proposal contained in this action may be changed in light of the comments received. All comments submitted will be available for examination in the Office of the Regional Counsel for Central Region, Room 506, DOT Regional Headquaters Building, 901 Locust, Kansas City, MO 64106, both before and after the closing date for comments. A report summarizing each substantive public contact with FAA personnel concerned with this rulemaking will be filed in the docket.

Availability of NPRMs

Any person may obtain a copy of this Notice of Proposed Rulemaking (NPRM) by submitting a request to the Federal Aviation Administration, Manager, Airspace Branch, Air Traffic Division, ACE-520, DOT Regional Headquarters Building, 901 Locust, Kansas City, MO 64106. Communications must identify the docket number of this NPRM. Persons interested in being placed on a mailing list for future NPRMs should also request a copy of Advisory Circular No. 11-2A, which describes the application procedure.

The Proposal

The FAA is considering an amendment to Part 71 of the Federal Aviation Regulations (14 CFR Part 71) to amend Class D airspace at Knob Noster, Whiteman AFB, MO. Class D airspace designations for airspace areas extending upward from the surface of the earth are published in Paragraph 5000 of FAA Order 7400.9J, dated August 31, 2001, and effective September 16, 2001, which is incorporated by reference in 14 CFR 71.1. The Class D designation listed in this document would be published subsequently in the Order.

The FAA is also considering an amendment to Part 71 of the Federal Aviation Regulations (14 CFR Part 71) to amend Class E airspace designated as a surface area at Knob Noster, Whiteman AFB, MO. Class E airspace areas designated as a surface area for an airport are published in Paragraph 6002 of FAA Order 7400.9J, dated August 31, 2001, and effective September 16, 2001, which is incorporated by reference in 14 CFR 71.1. The Class E airspace designated as a surface area listed in this document would be published subsequently in the Order.

Further, the FAA is considering an amendment to Part 71 of the Federal Aviation Regulations (14 CFR Part 71) to amend Class E airspace designated as extending upward from 700 feet above the surface of the earth at Knob Noster, Whiteman AFB, MO. Class E airspace designations for airspace areas extending upward from 700 feet or more above the surface of the earth are published in Paragraph 6005 of FAA Order 7400.9J, dated August 31, 2001, and effective September 16, 2001, which is incorporated by reference in 14 CFR 71.1. The Class E airspace designated as extending upward from 700 feet above the surface of the earth listed in this document would be published subsequently in the Order.

The FAA has determined that this proposed regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

List of Subjects in CFR Part 71

Airspace, Incorporation by reference, Navigation (Air).

The Proposed Amendment

In consideration of the foregoing, the Federal Aviation Administration proposes to amend 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9J, Airspace Designations and Reporting Points, dated August 31, 2001, and effective September 16, 2001, is amended as follows:

Paragraph 5000 Class D Airspace.

* * * * *

ACE MO D Knob Noster, MO [Revised]

Whiteman AFB, MO

(Lat. 38°43′49″N., long. 93°32′53″W.)

Whiteman TACAN

(Lat. 38°44′09″N., long. 93°33′02″W.)

Hawks NDB

(Lat. 38°37′49″N., long. 93°34′21″W.)

That airspace extending upward from the surface to and including 3,400 feet MSL and within a 6.5-mile radius of Whiteman AFB. This Class D airspace area is effective during the specific dates and times established in advance by a Notice to Airmen. The effective date and time will thereafter be continuously published in the Airport/Facility Directory.

* * * * *

Paragraph 6002 Class E airspace areas designated as a surface area for an airport.

* * * * *

ACE MO E2 Knob Noster, MO [Revised]

Whiteman AFB, MO

(Lat. 38°43′49″ N., long. 93°32′53″ W.)

Whiteman TACAN

(Lat. 38°44′09″ N., long. 93°33′02″ W.)

Hawks NDB

(Lat. 38°37′49″ N., long. 93°34′231″ W.)

That airspace extending upward from the surface within a 6.5-mile radius of Whiteman AFB. This Class E airspace area is effective during the specific dates and times established in advance by a Notice to Airmen. The effective date and time will thereafter be continuously published in the Airport/Facility Directory.

* * * * *

Paragraph 6005 Class E airspace areas extending upward from 700 feet or more above the surface of the earth.

* * * * *

ACE MO E2 Knob Noster, MO [Revised]

Whiteman AFB, MO

(Lat. 38°43′49″N., long. 93°32′53″W.)

Whiteman TACAN

(Lat. 38°44′09″N., long. 93°33′02″W.)

Hawks NDB

(Lat. 38°37′49″N., long. 93°34′21″W.)

That airspace extending upward from 700 feet above the surface of the earth within a 7-mile radius of Whiteman AFB.

* * * * *

Issued in Kansas City, MO, on July 30, 2002.
Herman J. Lyons, Jr.,
Manager, Air Traffic Division, Central Region.

[FR Doc. 02-21136 Filed 8-27-02; 8:45 am]

BILLING CODE 4910-13-M